FEDERAL COMMUNICATIONS COMMISSION

Sunshine Act Meeting; Open Commisssion Meeting; Tuesday, November 27, 2007

November 20, 2007.

The Federal Communications Commission will hold an Open Meeting on the subjects listed below on Tuesday, November 27, 2007, which is scheduled to commence at 9:30 a.m. in Room TW-C305, at 445 12th Street, SW., Washington, DC. The Commission is waiving the sunshine period prohibition contained in section 1.1203 of the Commission's rules, 47 CFR 1.1203, through 5:30 p.m. today, Tuesday, November 20, 2007. Thus, presentations with respect to the items listed below will be permitted until that time.

Item no. | Bureau | Subject
1 | Consumer & Governmental Affairs | Title: Rules and Regulations Implementing the Telephone Consumer Protection Act of 1991. (CG Docket No. 02-278).
|  | Summary: The Commission will consider a Notice of Proposed Rulemaking concerning extension of the current 5-year registration period for the Do-Not-Call Registry.
2 | Wireline Competition | Title: Petition To Establish Procedural Requirements To Govern Proceedings for Forbearance Under Section 10 of the Communications Act of 1934, as Amended.
|  | Summary: The Commission will consider a Notice of Proposed Rulemaking to evaluate the need for rules to govern petitions for forbearance.
3 | Media | Title: Promoting Diversification of Ownership in the Broadcasting Services; 2006 Quadrennial Regulatory Review—Review of the Commission's Broadcast Ownership Rules and Other Rules Adopted Pursuant to Section 202 of the Telecommunications Act of 1996 (MB Docket No. 06-121); 2002 Biennial Regulatory Review—Review of the Commission's Broadcast Ownership Rules and Other Rules Adopted Pursuant to Section 202 of the Telecommunications Act of 1996 (MB Docket No. 02-277); Cross-Ownership of Broadcast Stations and Newspapers (MM Docket No. 01-235); Rules and Policies Concerning Multiple Ownership of Radio Broadcast Stations in Local Markets (MM Docket No. 01-317); Definition of Radio Markets (MM Docket No. 00-244); Ways to Further Section 257 Mandate and To Build on Earlier Studies (MB Docket No. 04-228).
|  | Summary: The Commission will consider a Report and Order and Third Further Notice of Proposed Rulemaking concerning initiatives designed to increase participation in the broadcasting industry by new entrants and small businesses, including minority- and women-owned businesses.
4 | Media | Title: Creation of a Low Power Radio Service (MB Docket No. 99-25).
|  | Summary: The Commission will consider a Third Report and Order concerning the promotion and expansion of low power FM (LPFM) service.
5 | Media | Title: Standardized and Enhanced Disclosure Requirements for Television Broadcast Licensee Public Interest Obligations (MM Docket No. 00-168).
|  | Summary: The Commission will consider a Report and Order concerning standardizing and enhancing information provided to the public on how broadcast television stations serve the public interest.
6 | Media | Title: Annual Assessment of the Status of Competition in the Market for the Delivery of Video Programming (MB Docket No. 06-189).
|  | Summary: The Commission will consider the Thirteenth Annual Report to Congress on the status of competition in the market for delivery of video programming.
7 | Media | Title: Annual Assessment of the Status of Competition in the Market for the Delivery of Video Programming.
|  | Summary: The Commission will consider a Notice of Inquiry seeking comment and information for its Fourteenth Annual Report to Congress on the status of competition in the market for the delivery of video programming.
8 | Media | Title: In the Matter of Leased Commercial Access; Development of Competition and Diversity in Video Programming Distribution and Carriage (MB Docket No. 07-42).
|  | Summary: The Commission will consider a Report and Order concerning modifications to its commercial leased access and program service rules.

Open captioning will be provided for this event. Other reasonable accommodations for people with disabilities are available upon request. Include a description of the accommodation you will need including as much detail as you can. In addition, include a way we can contact you if we need more information. Make your request as early as possible; please allow at least 5 days advance notice. Last minute requests will be accepted, but may be impossible to fill. Send an e-mail to: fcc504@fcc.gov or call the Consumer & Governmental Affairs Bureau at 202-418-0530 (voice), 202-418-0432 (tty).

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Additional information concerning this meeting may be obtained from Audrey Spivack or David Fiske, Office of Media Relations, (202) 418-0500; TTY 1-888-835-5322. Audio/Video coverage of the meeting will be broadcast live with open captioning over the Internet from the FCC's Audio/Video Events web page at http://www.fcc.gov/realaudio.

Federal Communications Commission.
Marlene H. Dortch,
Secretary.

[FR Doc. 07-5843 Filed 11-21-07; 12:47 pm]

BILLING CODE 6712-01-P